ENVIRONMENTAL PROTECTION AGENCY

[FRL-7431-9]

Federal Agency Hazardous Waste Compliance Docket

AGENCY: Environmental Protection Agency.

ACTION: Notice of sixteenth update of the Federal Agency Hazardous Waste Compliance Docket, pursuant to CERCLA section 120(c).

SUMMARY: Section 120(c) of the Comprehensive Environmental Response, Compensation, and Liability Act of 1980 (CERCLA), as amended by the Superfund Amendments and Reauthorization Act of 1986 (SARA), requires the Environmental Protection Agency (EPA) to establish a Federal Agency Hazardous Waste Compliance Docket. The docket is to contain certain information about Federal facilities that manage hazardous waste or from which hazardous substances have been or may be released. (As defined by CERCLA section 101(22), a release is any spilling, leaking, pumping, pouring, emitting, emptying, discharging, injecting, escaping, leaching, dumping, or disposing into the environment.) CERCLA requires that the docket be updated every six months, as new facilities are reported to EPA by Federal agencies. The following list identifies the Federal facilities to be included in this sixteenth update of the docket and includes facilities not previously listed on the docket and reported to EPA since the last update of the docket, 67 FR 44200, July 2, 2002, which was current as of January 31, 2002. SARA, as amended by the Defense Authorization Act of 1997, specifies that, for each Federal facility that is included on the docket during an update, evaluation shall be completed in accordance with a reasonable schedule. Such site evaluation activities will help determine whether the facility should be included on the National Priorities List (NPL) and will provide EPA and the public with valuable information about the facility. In addition to the list of additions to the docket, this notice includes a section that comprises revisions (that is, corrections and deletions) of the previous docket list. This update contains 8 additions and 11 deletions since the previous update, as well as numerous other corrections to the docket list. At the time of publication of this notice, the new total number of Federal facilities listed on the docket is 2,228.

DATES: This list is current as of August 12, 2002.

FOR FURTHER INFORMATION CONTACT: Electronic versions of the docket may be obtained at http://www.epa.gov/compliance/cleanup/federal/index.html.

SUPPLEMENTARY INFORMATION:

Table of Contents

1.0 Introduction

2.0 Revisions of the Previous Docket

3.0 Process for Compiling the Updated Docket

4.0 Facilities Not Included

5.0 Facility Status Reporting

6.0 Information Contained on Docket Listing

1.0 Introduction

Section 120(c) of the Comprehensive Environmental Response, Compensation, and Liability Act of 1980 (CERCLA), 42 United States Code (U.S.C.) 9620(c), as amended by the Superfund Amendments and Reauthorization Act of 1986 (SARA), required the establishment of the Federal Agency Hazardous Waste Compliance Docket. The docket contains information on Federal facilities that is submitted by Federal agencies to the U.S. Environmental Protection Agency (EPA) under sections 3005, 3010, and 3016 of the Resource Conservation and Recovery Act (RCRA), 42 U.S.C. 6925, 6930, and 6937, and under section 103 of CERCLA, 42 U.S.C. 9603. Specifically, RCRA section 3005 establishes a permitting system for certain hazardous waste treatment, storage, and disposal (TSD) facilities; RCRA section 3010 requires waste generators and transporters and TSD facilities to notify EPA of their hazardous waste activities; and RCRA section 3016 requires Federal agencies to submit biennially to EPA an inventory of hazardous waste sites that the Federal agencies own or operate. CERCLA section 103(a) requires that the National Response Center (NRC) be notified of a release. CERCLA section 103(c) requires reporting to EPA the existence of a facility at which hazardous substances are or have been stored, treated, or disposed of and the existence of known or suspected releases of hazardous substances at such facilities.

The docket serves three major purposes: (1) To identify all Federal facilities that must be evaluated to determine whether they pose a risk to human health and the environment sufficient to warrant inclusion on the National Priorities List (NPL); (2) to compile and maintain the information submitted to EPA on such facilities under the provisions listed in section 120(c) of CERCLA; and (3) to provide a mechanism to make the information available to the public.

The initial list of Federal facilities to be included on the docket was published on February 12, 1988 (53 FR 4280). Updates of the docket have been published on November 16, 1988 (54 FR 46364); December 15, 1989 (54 FR 51472); August 22, 1990 (55 FR 34492); September 27, 1991 (56 FR 49328); December 12, 1991 (56 FR 64898); July 17, 1992 (57 FR 31758); February 5, 1993 (58 FR 7298); November 10, 1993 (58 FR 59790); April 11, 1995 (60 FR 18474); June 27, 1997 (62 FR 34779); November 23, 1998 (63 FR 64806); June 12, 2000 (65 FR 36994); December 29, 2000 (65 FR 83222), October 2, 2001 (66 FR 50185), and July 1, 2002 (67 FR 44200). This notice constitutes the sixteenth update of the docket.

Today's notice is divided into three sections: (1) Additions, (2) deletions, and (3) corrections. The additions section lists newly identified facilities that have been reported to EPA since the last update and that now are being included on the docket. The deletions section lists facilities that EPA is deleting from the docket. The corrections section lists changes in information about facilities already listed on the docket.

The information submitted to EPA on each Federal facility is maintained in the docket repository located in the EPA Regional office of the Region in which the facility is located (see 53 FR 4280 (February 12, 1988) for a description of the information required under those provisions). Each repository contains the documents submitted to EPA under the reporting provisions and correspondence relevant to the reporting provisions for each facility. Contact the following docket coordinators for information on Regional docket repositories:

Gerardo Millán-Ramos (HBS), US EPA Region 1, #1 Congress St., Suite 1100, Boston, MA 02114-2023, (617) 918-1377

Helen Shannon (ERRD), US EPA Region 2, 290 Broadway, 18th Floor, New York, NY 10007-1866, (212) 637-4260

Alida Karas (ERRD), US EPA Region 2, 290 Broadway, New York, NY 10007-1866, (212) 637-4276

Cesar Lee (3HS50), US EPA Region 3, 1650 Arch Street, Philadelphia, PA 19107, (215) 814-3205

Gena Townsend (4WD-FFB), US EPA Region 4, 61 Forsyth St., SW., Atlanta, GA 30303, (404) 562-8538

Laura Ripley (SE-5J), US EPA Region 5, 77 W. Jackson Blvd., Chicago, IL 60604, (312) 886-6040

Philip Ofosu (6SF-RA), US EPA Region 6, 1445 Ross Avenue, Dallas, TX 75202-2733, (214) 665-3178

D. Karla Asberry (FFSC), US EPA Region 7, 901 N. Fifth Street, Kansas City, KS 66101, (913) 551-7595

Stan Zawistowski (EPR-F), US EPA Region 8, 999 18th Street, Suite 500, Denver, CO 80202-2466, (303) 312-6255

Philip Armstrong (SFD-9-1), US EPA Region 9, 75 Hawthorne Street, San Francisco, CA 94105, (415) 972-3098

Ken Marcy (ECL-115), US EPA Region 10, 1200 Sixth Avenue, Seattle, WA 98101, (206) 553-2782

Monica Lindeman (ECL, SACU2), US EPA Region 10, 1200 Sixth Avenue, Seattle, WA 98101, (206) 553-5113

2.0 Revisions of the Previous Docket

Following is a discussion of the revisions of the previous docket, including additions, deletions, and corrections.

2.1 Additions

Today, 8 facilities are being added to the docket, primarily because of new information obtained by EPA (for example, recent reporting of a facility pursuant to RCRA sections 3005, 3010, or 3016 or CERCLA section 103). SARA, as amended by the Defense Authorization Act of 1997, specifies that, for each Federal facility that is included on the docket during an update, evaluation shall be completed in accordance with a reasonable schedule.

Of the eight facilities being added to the docket, none are facilities that have reported to the NRC the release of a reportable quantity (RQ) of a hazardous substance. Under section 103(a) of CERCLA, a facility is required to report to the NRC the release of a hazardous substance in a quantity that equals or exceeds the established RQ. Reports of releases received by the NRC, the U.S. Coast Guard (USCG), and EPA are transmitted electronically to the Transportation Systems Center at the U.S. Department of Transportation (DOT), where they become part of the Emergency Response Notification System (ERNS) database. ERNS is a national computer database and retrieval system that stores information on releases of oil and hazardous substances. Facilities being added to the docket and facilities already listed on the docket for which an ERNS report has been filed are identified by the notation “103(a)” in the “Reporting Mechanism” column.

It is EPA's policy generally not to list on the docket facilities that are small-quantity generators (SQG) and that have never generated more than 1,000 kilograms (kg) of hazardous waste in any single month. If a facility has generated more than 1,000 kg of hazardous waste in any single month (that is, if the facility is an episodic generator), it will be added to the docket. In addition, facilities that are SQGs and have reported releases under CERCLA section 103 or hazardous waste activities pursuant to RCRA section 3016 will be listed on the docket and will undergo site evaluation activities, such as a PA and, when appropriate, an SI. All such facilities will be listed on the docket, whether or not they are SQGs pursuant to RCRA. As a result, some of the facilities that EPA is adding to the docket today are SQGs that had not been listed on the docket but that have reported releases or hazardous waste activities to EPA under another reporting provision.

In the process of compiling the documents for the Regional repositories, EPA identified a number of facilities that had previously submitted PA reports, SI reports, Department of Defense (DoD) Installation Restoration Program (IRP) reports, or reports under another Federal agency environmental restoration program, but do not appear to have notified EPA under CERCLA section 103. Section 120(c)(3) of CERCLA requires that EPA include on the docket, among other things, information submitted under section 103. In general, section 103 requires persons in charge of a facility to provide notice of certain releases of hazardous substances. The reports under various Federal agency environmental restoration programs may contain information regarding releases of hazardous substances similar to that provided pursuant to section 103. EPA believes that CERCLA section 120(c) authorizes the agency to include on the docket a facility that has provided information to EPA through documents such as a report under a Federal agency environmental restoration program, regardless of the absence of section 103 reporting. Therefore, some of the facilities that EPA is adding today are being placed on the docket because they have submitted the documents described above that contain reports of releases of hazardous substances.

EPA also includes privately owned, government-operated (POGO) facilities on the docket. CERCLA section 120(c) requires that the docket contain information submitted under RCRA sections 3005, 3010, and 3016 and CERCLA section 103, all of which impose duties on operators as well as owners of facilities. In addition, other subsections of CERCLA section 120 refer to facilities “owned or operated” by an agency or other instrumentality of the Federal government. That terminology clearly includes facilities that are operated by the Federal government, even if they are not owned by it. Specifically, CERCLA section 120(e), which sets forth the duties of the Federal agencies after a facility has been listed on the NPL, refers to the Federal agency that “owns or operates” the facility. In addition, the primary basis for assigning responsibility for conducting PAs and SIs, as required when a facility is listed on the docket, is Executive Order 12580, which assigns that responsibility to the Federal agency having “jurisdiction, custody, or control” over a facility. An operator may be deemed to have jurisdiction, custody, or control over a facility.

2.2 Deletions

Today, 11 facilities are being deleted from the docket for various reasons, such as incorrect reporting of hazardous waste activity, change in ownership, and exemption as an SQG under RCRA (40 CFR 262.44). Facilities being deleted no longer will be subject to the requirements of CERCLA section 120(d).

2.3 Corrections

Changes necessary to correct the previous docket were identified by both EPA and Federal agencies. The changes needed varied from simple changes in addresses or spelling to corrections of the recorded name and ownership of a facility. In addition, some changes in the names of facilities were made to establish consistency in the docket. Many new entries are simply corrections of typographical errors. For each facility for which a correction has been entered, the original entry (designated by an “O”), as it appeared in the February 12, 1988 notice or subsequent updates, is shown directly below the corrected entry (designated by a “C”) for easy comparison.

3.0 Process for Compiling the Updated Docket

In compiling the newly reported facilities for the update being published today, EPA extracted the names, addresses, and identification numbers of facilities from four EPA databases—ERNS, the Biennial Inventory of Federal Agency Hazardous Waste Activities, the Resource Conservation and Recovery Information System (RCRIS), and the Comprehensive Environmental Response, Compensation, and Liability Information System (CERCLIS)—that contain information about Federal facilities submitted under the four provisions listed in CERCLA section 120(c).

Extensive computer checks compared the current docket list with the information obtained from the databases identified above to determine which facilities were, in fact, newly reported and qualified for inclusion on the update. In spite of the quality assurance efforts EPA has undertaken, state-owned or privately owned facilities that are not operated by the Federal government may have been included. Such problems are caused by procedures historically used to report and track data on Federal facilities; EPA is working to resolve them. Representatives of Federal agencies are asked to write to EPA's docket coordinator at the following address if revisions of this update information are necessary: Augusta K. Wills, Federal Agency Hazardous Waste Compliance Docket Coordinator, Federal Facilities Enforcement Office (Mail Code 2261A), U.S. Environmental Protection Agency, 1200 Pennsylvania Avenue NW., Washington, DC 20004.

4.0 Facilities Not Included

As explained in the preamble to the original docket (53 FR 4280), the docket does not include the following categories of facilities (note, however, that any of these types of facilities may, when appropriate, be listed on the NPL):

• Facilities formerly owned by a Federal agency and now privately owned will not be listed on the docket. However, facilities that are now owned by another Federal agency will remain on the docket and the responsibility for conducting PAs and SIs will rest with the current owner.

• SQGs that have never produced more than 1,000 kg of hazardous waste in any single month and that have not reported releases under CERCLA section 103 or hazardous waste activities under RCRA section 3016 will not be listed on the docket.

• Facilities that are solely transporters, as reported under RCRA section 3010, will not be listed on the docket.

5.0 Facility Status Reporting

EPA has expanded the docket database to include information on the NFRAP status of listed facilities. Indicating NFRAP status allows easy identification of facilities that, after submitting all necessary site assessment information, were found to warrant no further involvement on the part of EPA at the time of the status change. Accordingly, the docket database includes the following facility status codes:

U=Undetermined

N=No further remedial action planned (NFRAP)

NFRAP is a term used in the Superfund site assessment program to identify facilities for which EPA has found that currently available information indicates that listing on the NPL is not likely and further assessment is not appropriate at the time. NFRAP status does not represent an EPA determination that no environmental threats are present at the facility or that no further environmental response action of any kind is necessary. NFRAP status means only that the facility does not appear, from the information available to EPA at this time, to warrant listing on the NPL and that, therefore, EPA anticipates no further involvement by EPA in site assessment or cleanup at the facility. However, additional CERCLA response actions by the Federal agency that owns or operates the facility, whether remedial or removal actions, may be necessary at a facility that has NFRAP status. The status information contained in the docket database is the result of Regional evaluation of information taken directly from CERCLIS. (CERCLIS is a database that helps EPA Headquarters and Regional personnel manage sites, programs, and projects. It contains the official inventory of all CERCLA (NPL and non-NPL) sites and supports all site planning and tracking functions. It also integrates financial data from preremedial, remedial, removal and enforcement programs.) The status information was taken from CERCLIS and sent to the Regional docket coordinators for review. The results of those reviews were incorporated into the status field in the docket database. Subsequently, an updated list of facilities having NFRAP status (those for which an “N” appears in the status field) was generated; the list of updates since the previous publication of the docket is being published today.

Important limitations apply to the list of facilities that have NFRAP status. First, the information is accurate only as of August 12, 2002. Second, a facility's status may change at any time because of any number of factors, including new site information or changing EPA policies. Finally, the list of facilities that have NFRAP status is based on Regional review of CERCLIS data, is provided for information purposes only, and should not be considered binding upon either the Federal agency responsible for the facility or EPA.

The status information in the docket database will be reviewed and a new list of facilities classified as NFRAP will be published at each docket update.

6.0 Information Contained on Docket Listing

As discussed above, the update information below is divided into three separate sections. The first section is a list of new facilities that are being added to the docket. The second section is a list of facilities that are being deleted from the docket. The third section comprises corrections of information included on the docket. Each facility listed for the update has been assigned a code(s) that indicates a more specific reason(s) for the addition, deletion, or correction. The code key precedes the lists.

SARA, as amended by the Defense Authorization Act of 1997, specifies that, for each Federal facility that is included on the docket during an update, evaluation shall be completed in accordance with a reasonable schedule. Therefore, all facilities on the additions list to this fifteenth docket update must submit a PA and, if warranted, an SI to EPA. The PA must include existing information about a site and its surrounding environment, including a thorough examination of human, food-chain, and environmental targets, potential waste sources, and migration pathways. From information in the PA or other information coming to EPA's attention, EPA will determine whether a follow-up SI is required. An SI augments the data collected in a PA. An SI may reflect sampling and other field data that are used to determine whether further action or investigation is appropriate. This policy includes any facility for which there is a change in the identity of the responsible Federal agency. The reports should be submitted to the Federal facilities coordinator in the appropriate EPA Regional office.

The facilities listed in each section are organized by state and then grouped alphabetically within each state by the Federal agency responsible for the facility. Under each state heading is listed the name and address of the facility, the Federal agency responsible for the facility, the statutory provision(s) under which the facility was reported to EPA, and the correction code(s).

The statutory provisions under which a facility reported are listed in a column titled “Reporting Mechanism.” Applicable mechanisms are listed for each facility: for example 3010, 3016, and 103(c).

The complete list of Federal facilities that now make up the docket and the complete list of facilities classified as no further remedial action planned (NFRAP) are not being published today. However, the lists are available to interested parties and can be obtained at http://www.epa.gov/compliance/cleanup/federal/index.html or by calling the HQ Docket Coordinator at (202) 564-2468. As of today, the total number of Federal facilities that appear on the docket is 2,228.

Dated: December 19, 2002.
David J. Kling,
Director, Federal Facilities Enforcement Office.

Docket Revisions

Categories of Revisions for Docket Update by Correction Code

Categories for Deletion of Facilities

(1) Small-Quantity Generator

(2) Not Federally Owned

(3) Formerly Federally Owned

(4) No Hazardous Waste Generated

(5) (This correction code is no longer used.)

(6) Redundant Listing/Site on Facility

(7) Combining Sites Into One Facility/Entries Combined

(8) Does Not Fit Facility Definition

(9) (This correction code is no longer used.)

(10) (This correction code is no longer used.)

(11) (This correction code is no longer used.)

(12) (This correction code is no longer used.)

(13) (This correction code is no longer used.)

(14) (This correction code is no longer used.)

Categories for Addition of Facilities

(15) Small-Quantity Generator With Either a RCRA 3016 or CERCLA 103 Reporting Mechanism

(16) One Entry Being Split Into Two/Federal Agency Responsibility Being Split

(17) New Information Obtained Showing That Facility Should Be Included

(18) Facility Was a Site on a Facility That Was Disbanded; Now a Separate Facility

(19) Sites Were Combined Into One Facility

(19A) New Facility

Categories for Corrections of Information About Facilities

(20) Reporting Provisions Change

(20A) Typo Correction/Name Change/Address Change

(21) Changing Responsible Federal Agency (New Responsible Federal Agency Must Submit proof of previously performed PA, which is subject to approval by EPA)

(22) Changing Responsible Federal Agency and Facility Name (New Responsible Must Submit proof of previously performed PA, which is subject to approval by EPA)

(23) New Reporting Mechanism Added at Update

(24) Reporting Mechanism Determined to Be Not Applicable After Review of Regional Files

Note: Further information on definitions of categories can be obtained by calling Augusta K. Wills, the HQ Docket Coordinator at (202) 564-2468.

>

Federal Agency Hazardous Waste Compliance Docket Update #16—Additions
Facility name | Address | City | State | Zip code | Agency | Reporting mechanism | Code
FS-Tongass NF: Tonka Log Transfer Facility | 7.75 Mi SW of Petersburg | Petersburg | AK | 99833 | Agriculture | 3010 | 19A
FWS—AK Maritime NWR | Yakak Peninsula SW | Adak | AK | 99546 | Interior | 103c | 19A
Cape Yakak AWS Site Former Lowry Training Annex Air Force EOD Range | ½ Mile North of East Quincy Ave on Watkins Road | Aurora | CO | 80019 | Air Force | 103c | 19A
FS-Targhee NF: Chemical Warfare Service Test Site | Fremont County | Island Park | ID | 83429 | Agriculture | 103c | 19A
BLM-Gllenns Ferry Strychnine Site | T5S R10E SEC20 NESE | Glenns Ferry | ID | 83623 | Interior | 3010 | 19A
BIA-Coeur D'Alene Field Office | Agency Rd 4 Mi W of Hwy 95 | Plummer | ID | 83851-0408 | Interior | 3010 | 19A
Sundance Air Force Station-Gatr Site | Seven Miles North By Northwest of Sundance | Sundance | WY | 82729 | Air Force | 103c | 19A
Sundance Air Force Station Operations Area | 7 Miles North by Northwest of Sundance | Sundance | WY | 82729 | Air Force | 103c | 19A

Federal Agency Hazardous Waste Compliance Docket Update #16—Deletions
Facility name | Address | City | State | Zip code | Agency | Reporting mechanism | Code
Bonanza Mining District |  | Bonanza | CO | 81149 | Agriculture | 103c 3016 | 6
US National Photo Interpretation Center | 1st & M St SE | Washington | DC | 20374 | National Imagery and Mapping | 3010 | 7
Ames Lab #1 | 1915 N. Scholl Road, Iowa State University | Ames | IA | 50011-3020 | Energy | 3016 | 1
Clairborne Range, England Air Force Base | LA Hwy 488 13m SW of Alexandria | Alexandria | LA | 71301 | Agriculture | 3010 | 2
Mark Twain National Forest | 401 Fairgounds Road | Rolla | MO | 65401 | Agriculture | 103c 3010 | 4
Flying J Petroleums Inc Williston Refine | 1 Mi E of Williston Hwy 1804 | Williston | ND | 58801 |  | 103c | 2
Hallam Nuclear Power Facility | NE¼ Sec 19 T7N R6E | Hallam | NE | 68368 | Energy | 103c | 3
Dona Anna Range Camp Mates | 20 Miles East | Las Cruces | NM | 88001 | Army | 3016 | 6
Franklin D Roosevelt Library | 511 Albany Post Rd | Hyde Park | NY | 12538 | General Services Administration | 3010 | 4
Niagara Station |  | Youngstown | NY | 14174 | General Services Administration | 103c | 1
USCG—Station Jones Beach | Westend Boat Basin off Ocean | Freeport | NY | 11520-5001 | Transportation | 3010 | 1

Federal Agency Hazardous Waste Compliance Docket Update #16—Corrections
| Facility name | Address | City | State | Zip code | Agency | Reporting mechanism | Code
c | Chugach NF: Grantie Mine | T10N R7E S9, SM, NR Port Wells Bay, 20 MI N of | Whittier | AK | 99693 | Agriculture | 103c | 20A
o | Chugach NF: Grantie Mine | T10 R7 S9 Seward Meridian | Port Wells | AK | 99664 | Agriculture | 103c
c | Tongass NF: Gold Standard Mine | W Side Helm Bay, 10 MI SE of Meyers Chuck On | Meyers Chuck | AK | 99903 | Agriculture | 103c | 20A
o | Tongass NF: Gold Standard Mine | W Side of Helm Bay, 25 MI N of City | Ketchikan | AK | 99919 | Agriculture | 103c
c | North River White Alice Communications | T18S R10W S36 KRM | Unalakleet | AK | 99684 | Air Force | 3016 103c | 20A, 23
o | North River White Alice Communications | 8 MI E of Unalakleet | Unalakleet | AK | 99684 | Air Force | 3016
c | Alaska Tok Fuel Terminal | 7 MI W of Tok, Alaska Hwy 2 | Tok | AK | 99780 | Army | 3010 103c | 12
o | Alaska Tok Fuel Terminal | 7 MI W of Tok, Alaska Hwy 2 | Tok | AK | 99780 | Army | 3010
c | BLM-Kogru River Dewline Site | West Side of Harrison Bay 60 MI NW of Nuiqsut | Nuiqsut | AK | 99789 | Interior | 103c | 20A
o | BLM-Kogru River Dewline Site | West Side of Harrison Bay | Barrow & Prudhoe Bay | AK | 99723 | Interior | 103c
c | CG-Edna Bay Entrance Light | Edna Bay, 32 MI NW of City | Craig | AK | 99921 | Transportation | 3010 103c | 23
o | CG-Edna Bay Entrance Light | Edna Bay, 32 MI NW of City | Craig | AK | 99921 | Transportation | 3010
c | Plumas NF Whitehorse Landfill | T23N R8AE S6, TA24N R8E S7 | Quincy | CA | 95971 | Agriculture | 103a 103c | 23
o | Plumas NF Whitehorse Landfill | T23N R8AE S6, TA24N R8E S7 | Quincy | CA | 95971 | Agriculture | 103a 103c
c | Lake Tahoe Basin MU: Meyers Landfill | 870 Emerald Bay Rd | South Lake Tahoe | CA | 96150 | Agriculture | 103a 103c | 23
o | Lake Tahoe Basin MU: Meyers Landfill | 870 Emerald Bay Rd | South Lake Tahoe | CA | 96150 | Agriculture | 103a
c | BLM-Swansea Site | T 16S, R. 36E., Sec 24, SE SW, Mt Diablo M | Keeler | CA | 93530 | Interior | 103c 3016 | 20A
o | BLM-Swansea Site | T 16S, R. 36E., Sec 24, SE SW, Mt Diablo M | Keeler | CA |  | Interior | 103c 3016
c | NPS-Golden Gate National Recreation | Building 201 Fort Mason | San Francisco | CA | 94123 | Interior | 103c | 20A
o | NPS-Golden Gate National Recreation | Building 201 Fort Mason | San Francisco | CA |  | Interior | 103c
c | BLM-Stateline Dump (Landfill) | 10 M E of Town of Tulelake | Tulelake | CA | 96134 | Interior | 3016 103c | 20A
o | BLM-Stateline Dump (Landfill) | of Tulelake |  | CA |  | Interior | 3016 103c
c | Boeing North American, Inc | 12214 Lakewood Blvd | Downey | CA | 90241 | NASA | 3010 103c | 23
o | Boeing North American, Inc | 12214 Lakewood Blvd | Downey | CA | 90241 | NASA | 3010
c | NASA Santa Susana Field Laboratory | Woodlsey Canyon Road | Simi Valley | CA | 91304 | NASA | 3005 3010 3016 103c | 20A
o | USNASA Boeing SSFL Area II | Santa Susana Field Lab NASA | Simi Hills | CA | 91311 | NASA | 3005 3010 3016 103c
c | Oakland Naval Supply Center, Alameda | 2155 Mariner Square Loop | Alameda | CA | 94501 | Navy | 103c 3010 3005 | 20A
o | Oakland Naval Supply Center, Alameda |  | Alameda | CA | 94501 | Navy | 103c 3010 3005
c | Former NAVFAC Engineering Field | 900 Commodore Drive | San Bruno | CA | 94066 | Navy | 103c | 20A
o | Western Division, Naval Facilities | 900 Commodore Drive | San Bruno | CA |  | Navy | 103c
c | Grand Junction Office | 2597 B 3/4 Road | Grand Junction | CO | 81503 | Energy | 3016 103c 3005 3010 | 20A
o | Grand Junction Projects Office | 3597 B-3/4 RD PO2567 | Grand Junction | CO | 81502-5504 | Energy | 3016 103c 3005 3010
c | BLM-San Miguel Landfill #2 | T44N R17W Sec 18 | Slick Rock | CO | 81333 | Interior | 103c | 20A
o | BLM-San Miguel Landfill #2 | T44N R17W Sec 18 | Slick Rock | CO |  | Interior | 103c
c | BLM-Walden Landfill | Approximately 3 MI. NE of Walden | Walden | CO | 80480 | Interior | 103c | 20A
o | BLM-Walden Landfill | T9N R79W Sec 24, 6THPM | Walden | CO |  | Interior | 103c
c | Army Engine Plant Stratford | 550 South Main Street | Stratford | CT | 06497 | Army | 3005 3010 3016 103c | 20A
o | Stratford Army Engine Plant | 550 South Main Street | Stratford | CT | 06497 | Army | 3005 3010 3016 103c
c | Former NUSC New London Laboratory | 900 Bank Street | Fort Trumbull | CT | 06320 | Navy | 3010 103c 103a | 20A
o | New London Naval Underwater Systems | New London Laboratory | New London | CT | 06320 | Navy | 3010 103c 103a
c | National Imagery and Mapping Agency | 1st St & M St SE | Washington | DC | 20374 | National Imagery and | 3010 | 22
o | National Photographic | 1st St & M St SE | Washington | DC | 20374 | EPA | 3010
c | Miami Coast Guard Air Station | OPA Locka Airport | Opa Locka | FL | 33054 | Transportation | 103c | 20A
o | Miami Coast Guard Air Station | OPA Locka Airport | Opa Locka | FL |  | Transportation | 103c 3010
c | Lualualei National Response Team | Lualualei Valley Oahu Island | Wahiawa | HI | 96786 | Navy | 103c | 20A
o | Lualualei National Response Team | Lualualei Valley Oahu Island | Lualualei | HI |  | Navy | 103c
c | Sac City Army Reserve Center | 1801 Gishwiller Rd | Sac City | IA | 50583 | Army | 3010 103c | 23
o | Sac City Army Reserve Center | 1801 Gishwiller Rd | Sac City | IA | 50583 | Army | 3010
c | Waverly (EX) Air Station Z-81 | 1 MI S of Waverly | Waverly | IA | 50677 | Army | 103c | 20A
o | Waverly (EX) Air Station (ARNG) | 1 MI S of Waverly | Waverly | IA |  | Army | 103c
c | Caribou NF: S Mabey Canyon | T8S R44E S10, 11, 14 & 15 BM | Conda | ID | 83230 | Agriculture | 103c | 20A
o | Caribou NF: S Mabey Canyon Cross Valley | T8S R44E S10, 11, 14 & 15 BM | Conda | ID | 83230 | Agriculture | 103c
c | FS-Lazy C H Ranch | Star Rt 1, 15 MI SW of City | Montpelier | ID | 83254 | Agriculture | 3010 103c | 23
o | FS-Lazy C H Ranch | Star Rt 1, 15 MI SW of City | Montpelier | ID | 83254 | Agriculture | 3010
c | BLM-Cream Can Junction Pesticide | T5S R26E S35 SW¼ SW¼ BM | Minidoka | ID | 83343 | Interior | 3010 103c | 20A, 23
o | BLM-Cream Can Junction | T5S R26E S35 SW¼ SW¼ BM | Minidoka | ID | 83343 | Interior | 3010
c | BLM-Dobson Pass | T48N R4E S1 Lot 9 | Wallace | ID | 83873 | Interior | 3010 103c | 23
o | BLM-Dobson Pass | T48N R4E S1 Lot 9 | Wallace | ID | 83873 | Interior | 3010
c | Army Reserve Personnel Command | East of Intersection of D St & 1st St | Granite City | IL | 62040 | Army | 3010 103c | 20A, 23
o | Army Reserve Personnel Command | Rte 3 & Neidringhaus | Granite City | IL | 62040 | Army | 3010
c | Hoosier NF: Branchville Site | 811 Constitution Avenue | Bedford | IN | 47421 | Agriculture | 103c 3016 | 20A
o | Wayne-Hoosier NF: Branchville Site | 811 Constitution Avenue | Bedford | IN | 47421 | Agriculture | 103c 3016
c | Carl J. Shelter Army Reserve Center | 2300 10th Street | Lake Charles | LA | 70601 | Army | 3010 103c | 23
o | Carl J. Shetler Army Reserve Center | 2300 10th St | Lake Charles | LA | 70601 | Army | 3010
c | Natick Lab. Army Research, | Kansas St. | Natick 0 | MA | 01760 | Army | 3010 3016 103c | 20A
o | Natick Research Development and | Kansas St. | Natick | MA | 01760 | Army | 3010 3016 103c
c | Nyanza Chemical Waste Dump | Megunko Rd | Ashland | MA | 01721 | EPA | 3010 | 20A
o | Nyanza Superfund Site | Megunko Rd | Ashland | MA | 01721 | EPA | 3010
c | Doi Parker River Refuge | Northern Boulevard, Plum Island | Newburyport | MA | 01950 | Interior | 3016 103c | 20A
o | FWS-Parker River National Wildlife | Northern Boulevard, Plum Island | Newburyport | MA | 01950 | Interior | 3016 103c
c | U.S. Postal Service | 135 A Street | Boston | MA | 02210 | Postal Service | 3010 103c | 20A
o | Boston Postal Service | 135 A Street | Boston | MA | 02210 | Postal Service | 3010 103c
c | U.S. Postal Service Incoming Mail Center | 307 Becham St | Chelsea | MA | 02150 | Postal Service | 103c | 20A
o | Chelsea Postal Service Incoming Mail | 307 Becham St | Chelsea | MA | 02150 | Postal Service | 103c
c | U.S. Coast Guard Buoy, Depot South | Trotter Road | South Weymouth | MA | 02190 | Transportation | 3005 3010 103c | 20A
o | South Weymouth, Coast Guard Buoy | Trotter Road | South Weymouth | MA | 02190 | Transportation | 3005 3010 103c
c | Naval Communication, Unit Washington | Dangerfield & Commo Road | Clinton | MD | 20735 | Navy | 103c 103a 3010 | 20A, 23
o | Cheltenham Naval Communications Unit |  | Cheltenham | MD | 20623 | Navy | 103a
c | Bloodsworth Island Bombardment Range | Chesapeake Bay, 4 MI. South of Crocheron | Crocheron | MD | 21627 | Navy | 103c | 20A
o | Bloodsworth Archipelago | N Potomac Runs Chesapea | N/A | MD |  | Navy | 103c
c | US Coast Guard Yard | Hawkins Point Rd | Baltimore | MD | 21226 | Transportation | 3010 103c | 20A
o | Baltimore Coast Guard Yard | Hawkins Pt Rd | Baltimore | MD | 21226 | Transportation | 3010 103c
c | Maine Air National Guard-BIA | Bangor Int'l Arprt Rt 222/Geofrey Blvd | Bangor | ME | 04401 | Air Force | 103c | 20A
o | Bangor Maine Air National Guard-BIA | Bangor Int'l Arprt Rt 222/Geofrey Blvd | Bangor | ME | 04401 | Air Force | 103c
c | U.S. Defense Fuel Support Point Casco | RT 123 | Harpswell (South) | ME | 04079 | Defense Logistics | 3010 3016 103c | 20A
o | Casco Bay Defense Fuel Support Point | RT 123 | Harpswell (South) | ME | 04079 | Defense Logistics | 3010 3016 103c
c | U.S. Defense Fuel Support Support Point | Trundy Road Box 112 | Searsport | ME | 04974 | Defense Logistics | 3010 3016 103c | 20A
o | Searsport Defense Fuel Support Point | Trundy Road Box 112 | Searsport | ME | 04974 | Defense Logistics | 3010 3016 103c
c | Brunswick Naval Air Station | 1251 Orion Street | Brunswick | ME | 04011-5009 | Navy | 3005 3010 3016 103c | 20A
o | Naval Air Station Brunswick | 1251 Orion Street | Brunswick | ME | 04011-5009 | Navy | 3005 3010 3016 103c
c | Cutler Naval Computer & Telecommunication AM | Off Rt 191 | Cutler | ME | 04626-9608 | Navy | 3010 3016 103c | 20A
o | Cutler Naval Computer & | Off Rt 191 | East Machias | ME | 04630 | Navy | 3010 3016 103
c | Former Gouldsboro NSGA Operations Site | Route 195 | Gouldsboro | ME | 04624 | Navy | 103c | 20A
o | Gouldsboro Naval Security Group | Bldg 41 (Operations site) | Gouldsboro | ME | 04624 | Navy | 103c
c | South Portland Coast Guard Base | 259 High St | South Portland | ME | 04106 | Transportation | 3010 103c | 20A
o | U.S. Coast Guard Base South Portland | 259 High St | South Portland | ME | 04106 | Transportation | 3010 103c |
c | Desoto National Forest Access Roads | 100 W. Capitol St., Suite 1141 | Jackson | MS | 39269 | Agriculture | 103c 3016 | 20A
o | Desoto National Forest Access Roads | 100 W. Capitol St., Suite 1141 | Jackson | MS | 39269 | Agriculture | 103c 3016 |
c | Belton Communication Facility | SE¼ & Part SW¼, Sec 25, T46N, R33W | Belton | MO | 64012 | Energy | 103c | 20A
o | Belton Communication Facility | Hwy 71 at Belton 2.5 Miles 187th Street | Belton | MO |  | Energy | 103c |
c | BLM-Londonderry Mine/Maxville Tailings | NW¼ SW¼ Sec. 4 T8N R13W | Maxville | MT | 82007 | Interior | 103c | 20A
o | BM-Londonderry Mine | NW¼ SW¼ Sec. 4 T8N R13W | Maxville | MT |  | Interior | 103c |
c | U.S. Army Cold Regions Research and | Route 10 | Hanover | NH | 03755 | Army | 103c 3016 103a | 20A
o | Cold Regions Research Laboratory | Route 10 | Hanover | NH | 03755 | Army | 103c 3016 103a |
c | Boulder CY Engineering Lab (BR- | 500 Date St. | Boulder City | NV | 89005 | Interior | 3005 3010 103c | 20A
o | BM-Date Street Complex (Boulder City | 500 Date St. | Boulder City | NV | 89005 | Interior | 3005 3010 103c |
c | Gus Kefurt Army Reserve Center | 399 Miller Street | Youngstown | OH | 44507-1591 | Army | 3010 103c | 23
o | Gus Kefurt Army Reserve Center | 399 Miller Street | Youngstown | OH | 44507 | Army | 3010 |
c | U.S. Armed Forces Reserve Center | 1101 North 6th Street | Broken Arrow | OK | 74012 | Army | 3010 103c | 23
o | Broken Arrow Army Reserve Center—20 | 1101 N 6th Ste 4 | Broken Arrow | OK | 74012 | Army | 3010 |
c | Tracy W. Young U.S. Army Reserve | 805 West Hartford Avenue | Ponca City | OK | 74601 | Army | 3010 103c | 20A, 23
o | Ponca City Army Reserve Center | 805 West Hartford Ave | Ponca City | OK | 74601 | Army | 3010 |
c | Bia-Caddo County Landfill #1 | SE/4 Sec 7 T5N R11W SW/4 Sec 8 | Apache | OK | 73006 | Interior | 103c | 20A
o | Bia-Caddo County Landfill #1 | SE/4 Sec 7 T5N R11W SW/4 Sec 8 | Apache | OK |  | Interior | 103c |
c | Bia-Caddo County Landfill #5 | W/2 SW/4 Sec 16 T6N R11 | Apache | OK | 73006 | Interior | 103c | 20A
o | Bia-Caddo County Landfill #5 | W/2 SW/4 Sec 16 T6N R11 | Apache | OK |  | Interior | 103c |
c | Bia-Caddo County Landfill #2 | S2 SE4 Sec 4 T7N R13W | Carnegie | OK | 73015 | Interior | 103c | 20A
o | Bia-Caddo County Landfill #2 | S2 SE4 Sec 4 T7N R13W | Carnegie | OK |  | Interior | 103c |
c | Bia-Caddo County Landfill #3 | NE/4 NE4 Sec 10 T7N R13W | Carnegie | OK | 73015 | Interior | 103c | 20A
o | Bia-Caddo County Landfill #3 | NE/4 NE4 Sec 10 T7N R13W | Carnegie | OK |  | Interior | 103c |
c | Bia-Caddo County Landfill #4 | W2 NW4 Sec 35 T8N R13W | Carnegie | OK | 73015 | Interior | 103c | 20A
o | Bia-Caddo County Landfill #4 | W2 NW4 Sec 35 T8N R13W | Carnegie | OK |  | Interior | 103c |
c | Bia-Caddo County Landfill #6 | SE4 SE4 Sec 34 T9N R12 | Fort Cobb | OK | 73038 | Interior | 103c | 20A
o | Bia-Caddo County Landfill #6 | SE4 SE4 Sec 34 T9N R12 | Fort Cobb | OK |  | Interior | 103c |
c | Bia-Caddo County Landfill #7 | SW4 NE4 Sec 14 T9N R12W | Fort Cobb | OK | 73038 | Interior | 103c | 20A
o | Bia-Caddo County Landfill #7 | SW4 NE4 Sec14 T9N R12W | Fort Cobb | OK |  | Interior | 103c |
c | BIA-Caddo County Landfill #8 | NE4 NE4 Sec 22 T9N R12W | Fort Cobb | OK | 73038 | Interior | 103c | 20A
o | BIA-Caddo County Landfill #8 | NE4 NE4 Sec 22 T9N R12W | Fort Cobb | OK |  | Interior | 103c |
c | Elk Creek Dam Project | Elk Creek Rd, 4.8 MI NE OF, Trail | Trail | OR | 97541 | Corps of Engineers, Civil | 103c | 20A
o | Elk Creek Dam | 27 MI N of City | Medford | OR | 97503 | Corps of Engineers, Civil | 103c |
c | Albany Research Center | 1450 SW Queen Ave | Albany | OR | 97321 | Energy | 3010 3016 | 22
o | BM-Albany Research Center | 1450 SW Queen Ave | Albany | OR | 97321 | Interior | 3010 3016 103c
c | BLM-Glass Buttes Mine & Retorts Site | 3 MI S of Milepost 82 off Hwy 20, T23S R23E S27&34, & T24S R23E S3, WM, 20 MI | Brothers | OR | 97712 | Interior | 103a 103c | 23
o | BLM-Glass Buttes | 3 MI S of Milepost 82 off Hwy 20, 20 MI SE of | Brothers | OR | 97712 | Interior | 103a |
c | U.S. Army Reserve Maintenance Facility | Albion Road | Smithfield | RI | 02917 | Army | 103c | 20A
o | Smithfield Army Reserve Maintenance | Albion Road | Smithfield | RI | 02917 | Army | 103c
c | Black Hills NF: Spokane Munitions | R6E, T25, SW¼, Sec 26 | Spokane | SD | 57730 | Agriculture | 103c3016 | 20A
o | Black Hills NF: Spokane Munitions | RGE, T25, SW¼, Sec 26 | Spokane | SD |  | Agriculture | 103c 3016 |
c | Manti-Lasal NF: Bears Ears #11 Rex Group |  | Old La Sal | UT | 84530 | Agriculture | 3016 103c | 20A
o | Manti-Lasal NF: Bears Nars-Rex Group |  | Old La Sal | UT | 84530 | Agriculture | 3016 103c |
c | Manti-Lasal NF: Brushy Basin #31 Alias Pretty |  | Old La Sal | UT | 84530 | Agriculture | 103c 3016 | 20A
o | Manti-Lasal NF: Brushy Basin #31 |  | Old La Sal | UT | 84530 | Agriculture | 103c 3016 |
c | BLM-Worland Landfill | West of Wyoming Street 433 | Worland | WY | 82401 | Interio | 103c | 20A
o | BLM-Worland Landfill | T47NR93WSEC23 | Worland | WY |  | Interior | 103c |
c | BLM-Birch Creek Site | State Rt.235 at Calpet | Calpet | WY | 82923 | Interior | 103c | 20A
o | BLM-Birch Creek Site | T27NR13WSEC34 | Worland | WY |  | Interior | 103c |
c | BLM-Old Lysite Landfill | Badwater Road | Lysite | WY | 82642 | Interior | 103c | 20A
o | BLM-Old Lysite Landfill | T30NR9WSEC1 |  | WY |  | Interior | 103c |
c | BLM-Boulder Landfill | Wyoming State Rt 23-106 | Sublette | WY | 82923 | Interior | 103c | 20A
o | BLM-Boulder Landfill | T31NR108WSEC3 | Boulder | WY |  | Interior | 103c |
c | BLM-South Bighorn County Landfill | Off of US 20 | Greybull | WY | 82410 | Interior | 103c | 20A
o | BLM-South Bighorn County Landfill | T52NR93WSEC20 |  | WY |  | Interior | 103c |
c | U.S. Army Ethan Allen Firing Range | Lee River Road | Jericho | VT | 05465 | Army | 3010103c | 20A
o | Ethan Allen Firing Range | Lee River Road | Jericho | VT | 05465 | Army | 3010103

Federal Agency Hazardous Waste Compliance Docket Update #16 NFRAP Status Updates
Facility name | Address | City | State | Zip code | Agency | Reporting mechanism
Fresno Horticultural Field Station | 2021 South Peach Ave | Fresno | CA | 93727 | Agriculture | 3016 103c
Former NAVFAC Engineering Field | 900 Commodore Drive | San Bruno | CA | 94066 | Navy | 103c
San Diego Naval Medical Center | 34800 Bob Wilson Dr, Suite 1800 | San Diego | CA | 92314-5001 | Navy | 103a 103c 3010
Bloomfield Naval Weapons Industrial | Old Windsor Avenue, P.O. Box 2 | Bloomfield | CT | 06002 | Navy | 103c
New London Naval Submarine Base | Route 12 Crystal Lake Road | Groton | CT | 06349 | Navy | 3005 3010 3016 103c
Hoosier NF: Branchville Site | 811 Constitution Avenue | Bedford | IN | 47421 | Agriculture | 103c 3016
Carl J. Shelter Army Reserve Center | 2300 10th Street | Lake Charles | LA | 70601 | Army | 3010 103c
Truro Inst STP | Off Aldrich Rd | N Truro | MA | 02666 | Air Force | 103c 3010
Massachusetts Air National Guard | Skyline Dr | Worcester | MA | 01605 | Air Force | 103c
Fort Devens | Buena Vista St. | Ayer-Shirley | MA | 01432 | Army | 3005 3010 3016 103c 103a
Lt John A. Ferra US Army Reserve Center | North St | Danvers | MA | 01923 | Army | 103c
Natick Lab. Army Research, Development | Kansas St. | Natick | MA | 01760 | Army | 3010 3016 103c
Materials Technology Laboratory | 405 Arsenal St | Watertown | MA | 02172 | Army | 3005 3010 3016 103c 103a
Nyanza Chemical Waste Dump | Megunko Rd | Ashland | MA | 01721 | EPA | 3010
DOI Parker River Refuge | Northern Boulevard Plum Island | Newburyport | MA | 01950 | Interior | 3016 103c
Bedford Naval Weapons Industrial Reserve | Hartwell Road | Bedford | MA | 01730 | Navy | 3016 103c 103a
South Weymouth Naval Air Station | Nas S. Weymouth Pwd Code 72.3 | South Weymouth | MA | 02190 | Navy | 3005 3010 3016 103c
U.S. Coast Guard Buoy Depot South Weymouth | Trotter Road | South Weymouth | MA | 02190 | Transportation | 3005 3010 103c
Boston Veterans Affairs Hospital | 150 S Huntington Rd | Boston | MA | 02130 | Veterans Affairs | 103c
Maine Air National Guard-Bia | Bangor Int'l Arprt Rt 222/Geofrey Blvd | Bangor | ME | 04401 | Air Force | 103c
Loring Air Force Base | 42 CSG/CC | Limestone | ME | 04751 | Air Force | 3005 3010 3016 103c 103a
Auburn Training Site Organizational Maint | Stevens Mill Road | Auburn | ME | 04210 | Army | 3016
Caswell Training Site | 5 Miles | Caribou | ME | 04750 | Army | 3016
Brunswick Naval Air Station | 1251 Orion Street | Brunswick | ME | 04011-5009 | Navy | 3005 3010 3016 103c 103a
Cutler Naval Computer & Telecommunication AM | Off Rt 191 | Cutler | ME | 04626-9608 | Navy | 3010 3016 103c
Portsmouth Naval Shipyard | Seavy Island | Kittery | ME | 03904 | Navy | 3005 3010 3016 103c 103a
Hiawatha NF: Byers Lake Resort | 1.22 mi W & 1.22 mi N of Stueben | W Section of Schoolcraft City | MI | 49829 | Agriculture | 103c 3016
Battle Creek Medical Center | 5600 Armstrong Road | Battle Creek | MI | 49016 | Veterans Affairs | 3010
Desoto National Forest Access Roads: Road 415 | 100 W. Capital St., Suite 1141 | Jackson | MS | 39269 | Agriculture | 3016 103c
Pease Air Force | 509 CSG/CC | Portsmouth | NH | 03801 | Air Force | 3005 3010 3016 103c
U.S. Army Cold Regions Research and | Route 10 | Hanover | NH | 03755 | Army | 103c 3016 103a
Keene Army Reserve Center | 682 Main Street | Keene | NH |  | Army | 103c
Grenier Field Army Reserve Center | Galaxy Drive | Manchester | NH |  | Army | 103c
Otter Brook Lake Property | Old Concord Rd | Keene | NH | 03431 | Corps of Engineers, Civil | 103c
Surry Mountain Shooting Range | East Surry Rd | Surry | NH | 03431 | Corps of Engineers, Civil | 103c
Manchester Medical Center Ash Dump | 718 Smyth Road | Manchester | NH | 03104 | Veterans Affairs | 103c
Manchester Housing and Development | 83 Trahan Street | Manchester | NH | 03103 |  | 3010
Fort Bliss Air Defense Center | McGregor Range FAW 10 | McGregor Range | NM | 88003 | Army | 3005 3010
Ross Aviation, Inc | Hangar 481 | Kirtland AFB | NM | 87117 | Energy | 103c 3016
U.S. Postal Service—JAF Bldg | 8th Ave & 33rd Street | New York | NY | 10199 | Postal Service | 3010
U.S. Armed Forces Reserve Center | 1101 North 6thO='.' Street | Broken Arrow | OK | 74012 | Army | 3010 103c
Tracy W. Young, U.S. Army Reserve | 805 West Hartford Avenue | Ponca City | OK | 74601 | Army | 3010 103c
North Smithfield Nike Control Area | 274 Old Oxford Road | North Smithfield | RI | 02876 | Air Force | 103c
U.S. Army Reserve Maintenance Facility | Albion Road | Smithfield | RI | 02917 | Army | 103c
Davisville Naval Construction Battalion | Off Sanford Road | North Kingstown | RI | 02871 | Navy | 3016 103c 103a 3010 3005
Manti-Lasal NF: Brushy Basin #31 Alias Pretty |  | Old La Sal | UT | 84530 | Agriculture | 103c 3016
Manti-Lasal NF: Mt. Linnaeus #1 Laura |  | Old La Sal | UT | 84530 | Agriculture | 103c 3016
Manti-Lasal NF: Bears Ears #11 Rex Group Alias |  | Old La Sal | UT | 84530 | Agriculture | 103c 3016
Chester Army Reserve Center | Route 11 | Chester | VT |  | Army | 103c
T.S. Ethan Allen Air Force Base, RS | Bldg. #5, Camp Johnson | Colchester | VT | 05446 | Army | 3016

[FR Doc. 02-32908 filed 12-31-02; 8:45 am]

BILLING CODE 6560-50-P